DEPARTMENT OF COMMERCE

National Oceanic and Atmospheric Administration

RIN 0648-XC807

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a meeting of its Groundfish Essential Fish Habitat Review Committee (EFHRC).

DATES: The meeting will be held Wednesday September 4 through Thursday September 5, 2013. The meeting will begin each day at 8:30 a.m. and conclude at 5 p.m. or when business for the day has been completed.

ADDRESSES: The meeting will be held in the Large Conference Room of the Pacific Council offices, 7700 NE Ambassador Place, Suite 101, Portland, OR 97220.

FOR FURTHER INFORMATION CONTACT: Kerry Griffin, Staff Officer; telephone: (503) 820-2280.

SUPPLEMENTARY INFORMATION: The primary purpose of the meeting is to initiate plans for completing the periodic review of groundfish EFH. This will include reviewing the proposals to modify EFH, producing an informational report for the September Pacific Council meeting that summarizes the number and content of proposals, and discussing the Phase 2 Report and recommendations that will be delivered to the Council at the November meeting in Costa Mesa, CA.

Action will be restricted to those issues specifically listed in this notice and any issues arising after publication of this notice that require emergency action under Section 305(c) of the Magnuson-Stevens Fishery Conservation and Management Act, provided the public has been notified of the EFHRC's intent to take final action to address the emergency.

Special Accommodations

This meeting is physically accessible to people with disabilities. Requests for sign language interpretation or other auxiliary aids should be directed to Mr. Kris Kleinschmidt, at (503) 820-2280, at least 5 days prior to the meeting date.

Dated: August 9, 2013.
Tracey L. Thompson,
Acting Deputy Director, Office of Sustainable Fisheries, National Marine Fisheries Service.

[FR Doc. 2013-19697 Filed 8-13-13; 8:45 am]

BILLING CODE 3510-22-P